DEPARTMENT OF COMMERCE

National Oceanic and Atmospheric Administration

[0648-XA239]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS, has made a preliminary determination that the subject exempted fishing permit (EFP) application contains all the required information and warrants further consideration. The subject EFP would allow commercial fishing vessels to conduct fishing operations that are otherwise restricted by the regulations governing the fisheries of the Northeastern United States. Regulations under the Magnuson-Stevens Fishery Conservation and Management Act require publication of this notification to provide interested parties the opportunity to comment on applications for proposed EFPs.

DATES: Comments must be received on or before March 23, 2011.

ADDRESSES: Comments may be submitted by e-mail to NERO.EFP@noaa.gov. Written comments should be sent to Patricia A. Kurkul, Regional Administrator, NMFS, Northeast Regional Office, 55 Great Republic Drive, Gloucester, MA 01930. Mark the outside of the envelope “Comments on the REDNET EFP.” Comments may also be sent via facsimile (fax) to (978) 281-9135.

FOR FURTHER INFORMATION CONTACT: Travis Ford, Fishery Management Specialist, (978) 281-9233, fax (978) 281-9135.

SUPPLEMENTARY INFORMATION: The Maine Department of Marine Resources (DMR) has submitted an EFP application for five vessels participating in a study titled, “REDNET: A Network to Redevelop a Sustainable Redfish (Sebastes fasciatus) Trawl Fishery in the Gulf of Maine (GOM)”. This project is funded by the Northeast Fisheries Science Center's (NEFSC) Cooperative Research Program. The primary objective of this study is to devise strategies and means to efficiently harvest the redfish resource in the Gulf of Maine (GOM) while avoiding non-target catch. The proposed work is to meet the following objectives: Catch and bycatch assessment of a targeted redfish fishery; bottom trawl mesh size evaluation and optimization for targeted redfish catch retention and reduction of juvenile redfish and other bycatch; redfish processing and marketing evaluation and strategies; and outreach and implementation of the project results. The anticipated results of the project are defined gear type(s) and/or time/area combinations that maximize the long-term benefit from the redfish resource while minimizing negative impacts, thereby providing a means to achieve the Acceptable Catch Limit (ACL) for a rebuilt, but largely inaccessible, redfish resource.

The EFP would exempt the vessels from the following regulations implementing the Northeast (NE) Multispecies Fishery Management Plan (FMP): NE multispecies minimum fish size for redfish, specified at 50 CFR 648.83(a); and minimum mesh size of 6.5 inches (16.5 cm) for multispecies vessels fishing in the GOM specified at 50 CFR 648.80(a)(3)(i). In addition, vessels would be exempt from the following regulations for other groundfish species for sampling purposes only: Other minimum fish size restrictions; fish possession limits; species quota closures; prohibited fish species, not including species protected under the Endangered Species Act; and gear-specific fish possession restrictions. All non-compliant fish would be discarded as soon as practicable following data collection. These exemptions would allow investigators to evaluate the optimal mesh size to harvest legal-sized redfish (22.9 cm; 9 inches) while minimizing bycatch, and to selectively harvest redfish.

Baseline data would be collected by means of 10 days of experimental redfish fishing under this EFP using 10.16-cm (4-inch) mesh in the codend of a standard groundfish trawl. Based on initial sampling, investigators intend to refine sampling levels, times, and areas as the project progresses. Investigators will review potential sources of variability and evaluate them in terms of their potential effects on results. Sources of variability include: Area fished; seasonal availability; life stage; time of day; gear; and towing speed. Catches of all legal-sized species (target and non-target) will count against the appropriate groundfish sector allocation. No fish below the minimum fish size will be landed.

During the initial experimental fishing, fishermen will be asked to fish in a commercial manner using groundfish trawl nets equipped with a 10.16-cm (4-inch) mesh codend to maximize their legal-sized redfish catches and minimize discards. The fishermen will attempt to identify schools of redfish, set the net, catch the school, and haul back. This protocol will reduce the likelihood of towing between schools and thereby reduce bycatch based on historical experience.

Project investigators and/or technicians will be on board every experimental fishing trip and will document all catch and bycatch encountered following NE Fishery Observer Program protocols. Project personnel will estimate, when necessary, the total catch of legal and sublegal redfish per tow (separately), and then identify and weigh all other species. If there is a very large catch, the observers will follow NMFS sub-sampling protocols. Lengths of 100 individuals will be collected for redfish and other regulated species, with sub-sampling if necessary. Up to six tows will be made per trip. Tows will last between approximately 30 minutes and 1 hour, at a speed of between 3-3.5 knots, which conforms to normal fishing operations.

Bycatch and non-target species will be quantified using the “Standardized Bycatch Reporting Methodology” developed as part of the national bycatch initiative. Selectivity by size will be estimated using the ratios of cumulative size distributions from the baseline observer samples to the cumulative size distribution of redfish in NEFSC trawl surveys during the same period. Data will be entered into Excel and uploaded into the DMR biological database (MARVIN) and then transferred to NMFS and other project partners.

The initial experimental fishing activity is scheduled to start in March 2011. Ten experimental fishing days are planned over two trips of 5 days each. This initial phase will be completed by the end of April 2011. Based on the data gathered through this effort, the next 30 experimental fishing days would be allocated among the remaining three quarters of the year. It is possible that, after the initial 10 days, the project partners will decide 4-inch mesh is not ideal, and a larger mesh might be selected for the remaining trials. All experimental fishing activity is scheduled to be complete by April 2012.

If approved, the applicants may request minor modifications and extensions to the EFP throughout the course of research. EFP modifications and extensions may be granted without further public notice if they are deemed essential to facilitate completion of the proposed research and result in only a minimal change in the scope or impacts of the initially approved EFP request.

In accordance with NAO Administrative Order 216-6, a Categorical Exclusion or other appropriate National Environmental Policy Act document would be completed prior to the issuance of the EFP. Further review and consultation may be necessary before a final determination is made to issue the EFP. After publication of this document in the Federal Register, the EFP, if approved, may become effective following the public comment period.

Authority: 16 U.S.C. 1801 et seq.

Dated: March 3, 2011.
Emily H. Menashes,
Acting Director, Office of Sustainable Fisheries, National Marine Fisheries Service.

[FR Doc. 2011-5236 Filed 3-7-11; 8:45 am]

BILLING CODE 3510-22-P